DEPARTMENT OF AGRICULTURE

Forest Service

Willamette National Forest, McKenzie River Ranger District; Oregon; Flat Country Project

AGENCY: Forest Service, USDA.

ACTION: Notice of intent to prepare an environmental impact statement.

SUMMARY: The Flat Country Project is located on the western slope of the Cascades, extending from Scott Mountain to the upper reach of the McKenzie River, eight miles east of McKenzie Bridge, Oregon. The project area is approximately 74,063 acres. There is a high amount of mid-seral stands, moving the seral distribution away from historic levels and limiting stand structure and species diversity across the landscape. This project proposes to thin, reduce the number of trees, and increase the size and structure of the remaining forest over time. Activities proposed include forest management treatments across approximately 5,001 acres, including forest thinning (including riparian reserve thinning) and regenerating harvests. Additional proposed activities would include road work (including maintenance, reconstruction, temporary road construction, and decommissioning), and meadow enhancements.

DATES: Comments concerning the scope of the analysis must be received by September 19, 2018. The draft environmental impact statement is expected March 2019 and the final environmental impact statement is expected August 2019.

ADDRESSES: Scoping comments can be submitted electronically through https://cara.ecosystem-management.org/Public//CommentInput?Project=53966. You may also submit written comments via mail or by hand delivery to Darren Cross, District Ranger, McKenzie Bridge Ranger District, 57600 McKenzie Hwy., McKenzie Bridge, OR 97413; or via facsimile to 541-822-7254.

FOR FURTHER INFORMATION CONTACT: Dean Schlichting (Project Team Leader) at deandschlichting@fs.fed.us, 541-822-7214.

Individuals who use telecommunication devices for the deaf (TDD) may call the Federal Information Relay Service (FIRS) at 1-800-877-8339 between 8 a.m. and 8 p.m., Eastern Time, Monday through Friday.

SUPPLEMENTARY INFORMATION:

Background

This project was originally an environmental assessment and was scoped from May 22 to June 23, 2018. Scoping comments were received on a range of concerns and topics. Primary concerns included: Providing a sustainable supply of timber products for local industry, reasons for and against road construction, preserving and impacting northern spotted owl habitat, no logging of mature forests, encouraging the creation of early seral habitat, and alerting the recreating public of operation schedules and haul routes to avoid conflict. After the review of the project and due to the complexity and size of this project, as well as public input, the decision was made to elevate the analysis to an environmental impact statement.

Purpose and Need for Action

The Flat Country Project is proposed to provide a sustainable supply of timber products, actively manage stands to improve stand conditions (density, diversity, and structure), increase vegetative habitat complexity and hardwood composition along streams, and sustainably manage the network of road systems in the project area. Within the project area trees are competing for sunlight, water and nutrients causing reduced tree growth and vigor. The productivity and site conditions of forests in the project area allow for the production of forest products while being sensitive to the ecology of the area and meeting other important natural values and services.

Proposed Action

The proposed action has multiple facets:

(1) Commercially harvest about 5,001 acres (3.7% of the Project Area) and regenerate roughly 962 acres (1.0% of the Project Area). We propose to use thinning across the majority of the project and these treatments would incorporate some untreated areas (skips) and create gaps of up to three acres with variable spacing of remaining trees. We would design the regeneration harvest to increase forest-age diversity across the project area. The type of regeneration harvests would vary and may potentially include: Shelterwood harvests, two-aged systems, group selection harvests, variable retention harvests, and seed tree harvests. The age of stands proposed for treatment range from 29 to 150 years.

(2) Thin and treat fuels on approximately 767 acres of riparian reserves outside of riparian buffers to accelerate and/or improve Aquatic Conservation Strategy Objectives (ACSOs). Additional riparian reserve treatments could occur on up to 50 acres within buffers, including diversity thinning in plantations, wood placement in creeks and cutting and leaving conifers in areas of hardwoods to encourage hardwood growth. All treatments will be designed to accelerate and/or improve ACSOs.

(3) Maintain or reconstruct approximately 146 miles of road, including installation of approximately 200 culverts (primarily replacements).

(4) Decommission and hydrologically stabilize approximately 11 miles of road.

(5) Construct 16 miles of temporary roads; temporary roads would be restored to their previous function and closed after all project activities are completed.

(6) Create fuel breaks along forest roads. Treatments would occur along approximate 57 miles of road and range from 33 to 66 feet wide which would equate to about 2597 acres.

(7) Enhance dry and wet meadow habitats on approximately 368 acres, which includes a combination of tree removal and broadcast burning.

(8) Reduce hazardous fuels on both existing fuel loadings and logging slash as a result of harvest to bring stands to levels within Forest Plan standards and guidelines. Proposed treatments include broadcast or under-burning, machine piling, burning of landings, hand piling and chipping.

Possible Alternatives

Due to the responses we received from the initial scoping, there is at least one other action alternative that may be considered. One commentor suggested the Forest Service consider alternatives that avoid logging mature forests. The district will develop an alternative that harvests only in previously managed stands under 80 years old (Alternative 3).

Responsible Official

McKenzie River District Ranger.

Nature of Decision To Be Made

Given the purpose and need, the scope of the decision to be made by the responsible official will be as follows: Do the proposed actions comply with all applicable laws governing Forest Service actions and with the applicable standards and guidelines found in the Willamette Land and Resource Management Plan (LRMP)? Does the Environmental Impact Statement have sufficient site-specific environmental analysis to make an informed decision? Do the proposed actions meet the purpose and need for action? With these assurances the responsible official must decide: Whether or not to select the proposed action or one of any other potential alternatives that may be developed, and what, if any, additional actions should be required.

Scoping Process

This notice of intent begins the formal scoping process, which guides the development of the environmental impact statement. It is important that reviewers provide their comments at such times and in such manner that they are useful to the agency's preparation of the environmental impact statement. Therefore, comments should be provided prior to the close of the comment period and should clearly articulate the reviewer's concerns and contentions.

We are interested in your comments on the following questions: Are there alternative ways to meet the purpose of the project other than the proposed action we offer, which you would like the Forest Service to consider and analyze? Is there any information about the project area, which you believe is important in the context of the proposed activities that you would like the Forest Service to consider? What specifically are the potential effects of this proposal that you are particularly concerned about? For example, rather than simply stating that you would like a change in a proposed activity or that you would not like an activity to take place, it is most helpful to understand why you desire this. What are your underlying concerns with an activity or action; what are the effects from the activity that concern you?

Comments received in response to this solicitation, including names and addresses of those who comment, will be part of the public record for this proposed action. Comments submitted anonymously will be accepted and considered, however, anonymous comments will not provide the Agency with the ability to provide the respondent with subsequent environmental documents.

Dated: July 26, 2018.
Chris French,
Associate Deputy Chief, National Forest System.

[FR Doc. 2018-17837 Filed 8-17-18; 8:45 am]

BILLING CODE 3411-15-P